DEPARTMENT OF COMMERCE

National Oceanic and Atmospheric Administration

RIN 0648-XD768

Gulf of Mexico Fishery Management Council (Council); Public Meeting

AGENCY: National Marine Fisheries Service (NMFS), National Oceanic and Atmospheric Administration (NOAA), Commerce.

ACTION: Notice of a public meeting.

SUMMARY: The Gulf of Mexico Fishery Management Council will hold a meeting of the Coastal Migratory Pelagics Advisory Panel.

DATES: The meeting will convene at 8:30 a.m. on Tuesday, March 3 until 5 p.m. on Wednesday, March 4, 2015.

ADDRESSES: The meeting will be held at the Gulf of Mexico Fishery Management Council's office, 2203 North Lois Avenue, Suite 1100, Tampa, FL 33607.

FOR FURTHER INFORMATION CONTACT: Ryan Rindone, Fishery Biologist, Gulf of Mexico Fishery Management Council; telephone: (813) 348-1630; fax: (813) 348-1711; email: ryan.rindone@gulfcouncil.org.

SUPPLEMENTARY INFORMATION: The items of discussion on the agenda are as follows:

Mackerel Advisory Panel Agenda, Tuesday, March 3, 2015, 8:30 a.m. Until Wednesday, March 4, 2015, 5 p.m.

I. Introductions and Adoption of Agenda

II. Approval of May 15, 2013 Mackerel Advisory Panel (AP) report minutes

III. Review of SEDAR 38—Gulf of Mexico King Mackerel Stock Assessment

(a) AP Recommendations

IV. Overview of Coastal Migratory Pelagics (CMP) Amendment 26—Gulf and Atlantic King Mackerel Reallocation, Stock Boundary, and Sale Provisions

(a) AP Recommendations

V. Overview of CMP Amendment 28—Gulf and Atlantic King Mackerel Permit Separation

(a) AP Recommendations

VI. Overview of Gulf King Mackerel Southern Zone Gillnet Fishery Issues

(a) AP Recommendations

VII. Other Business

(a) Discussion topics posed by AP members

—Adjourn—

This agenda may be modified as necessary to facilitate the discussion of pertinent materials up to and during the scheduled meeting.

For meeting materials see folder “Mackerel Advisory Panel meeting—2015-03” on Gulf Council file server. To access the file server, the URL is https://public.gulfcouncil.org:5001/webman/index.cgi, or go to the Council's Web site and click on the FTP link in the lower left of the Council Web site (http://www.gulfcouncil.org). The username and password are both “gulfguest”.

The meeting will be webcast over the internet. A link to the webcast will be available on the Council's Web site, http://www.gulfcouncil.org.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to Kathy Pereira at the Council Office (see ADDRESSES), at least 5 working days prior to the meeting.

Note: The times and sequence specified in this agenda are subject to change.

Authority: 16 U.S.C. 1801 et seq.

Dated: February 10, 2015.
Tracey L. Thompson,
Acting Deputy Director, Office of Sustainable Fisheries, National Marine Fisheries Service.

[FR Doc. 2015-03043 Filed 2-12-15; 8:45 am]

BILLING CODE 3510-22-P